DEPARTMENT OF HEALTH AND HUMAN SERVICES

Centers for Disease Control and Prevention

[30Day-07-0601]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 371-5960 or send an e-mail to omb@cdc.gov. Send written comments to CDC Desk Officer, Office of Management and Budget, Washington, DC or by fax to (202) 395-6974. Written comments should be received within 30 days of this notice.

Proposed Project

The National Tobacco Control Program (NCTP) Chronicles Progress Reporting System—Revision—(OMB No. 0920-0601), National Center for Chronic Disease Prevention and Health Promotion (NCCDPHP), Centers for Disease Control and Prevention (CDC).

Background and Brief Description

Tobacco use is the single most preventable cause of death and disease in the United States and most people begin using tobacco in early adolescence. Annually, causes more than 430,000 deaths in the nation, costing approximately $50-70 billion in medical expenses alone. The Centers for Disease Control and Prevention (CDC) is seeking a 3 year Office of Management and Budget (OMB) approval for a revision of a reporting system called the Chronicle. The collection of this information is part of a federal reporting requirement for funds received by states from the CDC through the National Tobacco Control Program (NTCP).

The Office on Smoking and Health currently has clearance for the NTCP Chronicle, OMB# 0920-0601, a web-based program monitoring system. This Reporting system allows CDC increased ability to analyze program monitoring data received through state submission of bi-annually progress reports, to provide national summaries of progress toward the objectives contained in Healthy People 2010 and, as well as CDC-specified goals and performance measures. The system also allows CDC to rapidly respond to outside inquiries concerning a specific tobacco control activity occurring in the state tobacco control programs. The revision to the existing web-based program monitoring data collection system serves to append the original quantitative and narrative format. This will result in increased quality of the content of the tobacco control data reported, and continues to provide for an electronic means for efficient collection and transmission to the CDC headquarters.

In January 2004, the Office on Smoking and Health launched the NTCP Chronicle, an online program planning and reporting tool that assists states in developing comprehensive tobacco control program plans and in responding to federal reporting requirements. Using a standardized format based on OSH's program framework, the Chronicle enables grantees to describe their CDC-funded program activities and expected outcomes. By collecting and housing this information within a searchable database, OSH can effectively fulfill its cooperative agreement obligations, namely to monitor, evaluate and compare individual programs, provide technical assistance to increase the efficacy of state-driven initiatives, and to assess and report aggregate information regarding the overall effectiveness of the National Tobacco Control Program (NTCP). The NTCP Chronicle is complementary to the Grants.Gov electronic grant submission process by facilitating development of the key elements for inclusion in addressing federal cooperative agreement requirements, thus helping insure effective evidence- and science-based program planning and development efforts of state public health departments. This submission represents a request for a revision of a currently approved data collection. The revised content includes modifications to some of the Program Report assessment questions, a reduction in the number of fields a cooperative agreement recipient is required to respond to, and a recalculation to provide a more realistic burden estimate of the amount of time required to complete the Progress Report.

There is no cost to the respondents other than their time. The total estimated annualized burden hours are 816.

Estimated Annualized Burden Hours

Respondents | Number of respondents | Number of responses per respondent | Average burden respondent (in hours)
States and District of Columbia | 51 | 2 | 8

Dated: January 22, 2007.
Joan F. Karr,
Acting Reports Clearance Officer, Centers for Disease Control and Prevention.

[FR Doc. E7-1195 Filed 1-25-07; 8:45 am]

BILLING CODE 4163-18-P